SMALL BUSINESS ADMINISTRATION

Senior Executive Service; Performance Review Board Members

AGENCY: Small Business Adminstration.

ACTION: Notice of members of the FY 2003 Performance Review Board.

SUMMARY: Section 4314(c)(4) of Title 5, U.S.C., requires each agency to publish notification of the appointment of individuals who may serve as members of that Agency's Performance Review Boards (PRB). The following have been designated to serve on the FY 2003 Performance Review Boards for the U.S. Small Business Administration:

1. Lisa Goeas, Chief of Staff;

2. Cheryl Mills, Associate Deputy Administrator for Entrepreneurial Development;

3. Lewis D. Andrews, Jr., Associate Deputy Administrator for Management and Administration;

4. Stephen Galvan, Chief Information Officer;

5. Susan Hensley, Associate Administrator for Communications and Public Liaison;

6. Judith Roussel, District Director (Chicago);

7. José Sifontes, District Director (New York);

8. Robert J. Moffitt, Deputy Associate Deputy Administrator for Management and Administration;

9. Monika Edwards Harrison, Chief Human Capital Officer;

10. Loyola R. Trujillo, Assistant Administrator for Equal Employment Opportunity and Civil Rights Compliance;

11. Eric Benderson, Associate General Counsel for Litigation;

12. Calvin Jenkins, Deputy Associate Deputy Administrator for Capital Access;

13. Jennifer Main, Deputy Chief Financial Officer;

14. James Rivera, Associate Administrator for Financial Assistance; and,

15. Jerry Williams, Deputy Chief Information Officer.

Dated: November 17, 2003.
Hector V. Barreto,
Administrator.

[FR Doc. 03-29227 Filed 11-21-03; 8:45 am]

BILLING CODE 8025-01-P